DEPARTMENT OF TRANSPORTATION

Federal Aviation Administration

14 CFR Part 71

[Docket No. FAA-2015-1623; Airspace Docket No. 15-AWP-10]

Amendment of Class E Airspace; Tracy, CA

AGENCY: Federal Aviation Administration (FAA), DOT.

ACTION: Final rule, correction.

SUMMARY: This action corrects an error in a final rule published in the Federal Register of August 31, 2015, by amending the geographic coordinates of Tracy Municipal Airport, Tracy, CA, in Class E airspace. This does not affect the boundaries or operating requirements of the airspace.

DATES: Effective 0901 UTC, October 15, 2015. The Director of the Federal Register approves this incorporation by reference action under title 1, Code of Federal Regulations, part 51, subject to the annual revision of FAA Order 7400.9 and publication of conforming amendments.

FOR FURTHER INFORMATION CONTACT: Steve Haga, Federal Aviation Administration, Operations Support Group, Western Service Center, 1601 Lind Avenue SW., Renton, WA, 98057; Telephone: (425) 203-4563.

SUPPLEMENTARY INFORMATION:

History

The FAA published a final rule, in the Federal Register, amending Class E airspace extending upward from 700 feet above the surface at Tracy Municipal Airport, Tracy, CA (80 FR 52392 August 31, 2015). Subsequent to publication the FAA identified an error in the longitudinal coordinate of the airport reference point for Tracy Municipal Airport. This action corrects the error.

Correction to Final Rule

Accordingly, pursuant to the authority delegated to me, in the Federal Register of August 31, 2015 (80 FR 52392) FR Doc. 2015-21414, the longitude coordinate in the regulatory text on page 52393, column 2, line 10, is corrected as follows:

§ 71.1 [Amended]

AWP CA E5 Tracy, CA (Corrected)

Remove “long. 121°26′31″ W.” and add in its place “long. 121°26′30″ W.”

Issued in Seattle, Washington, on September 08, 2015.
Christopher Ramirez,
Manager, Operations Support Group, Western Service Center.

[FR Doc. 2015-23271 Filed 9-16-15; 8:45 am]

BILLING CODE 4910-13-P